ENVIRONMENTAL PROTECTION AGENCY

[EPA-HQ-OAR-2020-0505; FRL-12496-01-OMS]

Agency Information Collection Activities; Submission to the Office of Management and Budget for Review and Approval; Comment Request; NESHAP for Carbon Black Production (Renewal)

AGENCY: Environmental Protection Agency (EPA).

ACTION: Notice.

SUMMARY: The Environmental Protection Agency has submitted an information collection request (ICR), NESHAP for Carbon Black Production (EPA ICR Number 2677.03, OMB Control Number 2060-0738) to the Office of Management and Budget (OMB) for review and approval in accordance with the Paperwork Reduction Act. This is a proposed extension of the ICR, which is currently approved through December 31, 2024. Public comments were previously requested via the Federal Register on August 6, 2024 during a 60-day comment period. This notice allows for an additional 30 days for public comments.

DATES: Comments may be submitted on or before January 17, 2025.

ADDRESSES: Submit your comments, referencing Docket ID Number EPA-HQ-OAR-2020-0505, to EPA online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute. Do not submit electronically to www.regulations.gov any information you consider to be CBI, proprietary business information (PBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through December 31, 2024. An agency may not conduct or sponsor and a person is not required to respond to a collection of information unless it displays a currently valid OMB control number.

Public comments were previously requested via the Federal Register on April 23, 2024, during a 60-day comment period (89 FR 30358). This notice allows for an additional 30 days for public comments. Supporting documents which explain in detail the information that the EPA will be collecting are available in the public docket for this ICR. The docket can be viewed online at https://www.regulations.gov or in person at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for the Generic Maximum Achievable Control Technology (GMACT) Standards published at (40 CFR part 63, subpart YY) were promulgated on July 12, 2002 (67 FR 46257), and amended on April 13, 2005 (70 FR 19266). These regulations apply to existing and new carbon black (CB), cyanide (CY), ethylene (ET), and spandex (SP) facilities that would be subject to the major source provisions specified under the GMACT NESHAP. New facilities include those that commenced construction or reconstruction after the date of proposal. This information is being collected to assure compliance with 40 CFR part 63, subpart YY. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: 5900-484.

Respondents/affected entities: Owners and operators of carbon black production facilities.

Respondent's obligation to respond: Mandatory (40 CFR part 63, subpart YY).

Estimated number of respondents: 15 (total).

Frequency of response: Annually, semiannually.

Total estimated burden: 240 hours (per year). Burden is defined at 5 CFR 1320.3(b).

Total estimated cost: $84,300 (per year), includes $51,500 annualized capital or operation & maintenance costs.

Changes in the Estimates: The increase in burden from the most recently approved ICR is due to a revised application of costs when compared to the final RTR ICR. In the previous ICR renewal, semiannual reports were incorrectly labeled as occurring once per year. This line item is now adjusted to occur twice per year. Additionally, there is an increase in costs, which is due to the use of updated labor rates. This ICR uses labor rates from the most recent Bureau of Labor Statistics report (December 2023) to calculate respondent burden costs. Capital/Startup and O&M costs also increased due to a revised application of costs when compared to the final RTR ICR. The Capital/Startup and O&M costs were increased from 2021 $ to 2023 $ using the CEPCI Index.

Courtney Kerwin,
Director, Information Engagement Division.

[FR Doc. 2024-29953 Filed 12-17-24; 8:45 am]

BILLING CODE 6560-50-P